DEPARTMENT OF LABOR

Employment and Training Administration

[NAFTA-5615]

Kurt Manufacturing Company, Minneapolis, MN; Notice of Termination of Investigation

Pursuant to Title V of the North American Free Trade Agreement Implementation Act (P.L. 103-182) concerning transitional adjustment assistance, hereinafter called NATA-TAA and in accordance with Section 250(a), Subchapter D, Chapter 2, Title II, of the Trade Act of 1974, as amended (19 U.S.C. 2273), an investigation was initiated on December 5, 2001, in response to a petition filed on behalf of workers at Kurt Manufacturing Company, Minneapolis, Minnesota.

The workers' petition is invalid. Each of the petitioners is employed in a different division of Kurt Manufacturing. Consequently, further investigation in this case would serve no purpose, and the investigation has been terminated.

Signed at Washington, DC, this 8th day of March, 2002.
Linda G. Poole,
Certifying Officer, Division of Trade Adjustment Assistance.

[FR Doc. 02-8275 Filed 4-4-02; 8:45 am]

BILLING CODE 4510-30-M